DEPARTMENT OF EDUCATION

Application for New Awards; Advanced Placement (AP) Test Fee Program—Reopening the AP Test Fee Fiscal Year 2012 Competition

AGENCY: Office of Elementary and Secondary Education (OESE), Department of Education.

ACTION: Notice reopening the AP Test Fee fiscal year 2012 competition.

Catalog of Federal Domestic Assistance (CFDA) Number: 84.330B.

SUMMARY: On February 15, 2012, we published in the Federal Register (77 FR 8848) a notice inviting applications for the AP Test Fee fiscal year (FY) 2012 competition (February 15 notice). That notice established an April 6, 2012, deadline for eligible applicants to apply for funding under this program.

We are reopening the competition to eligible applicants because additional funds have become available. The February 15 notice stated that for FY 2012, the Department expected to award $19,962,200 in new grants under this program. Based on the anticipated number of applicants and other information available to the Department, we expected this amount to be sufficient to pay up to $38 per advanced placement exam for up to three exams per low-income student.

An additional $4,750,000 in FY 2012 funds have become available. Based on the anticipated number of applicants and other information available to the Department, we expect the new total amount of funds available for awards, $24,712,200, to be sufficient to pay the full cost of each advanced placement exam, with no limitation on the number of exams per low-income student.

We are reopening the FY 2012 competition to give eligible applicants an opportunity to submit revised applications that reflect the new total amount of funds available for new awards.

All information in the February 15, notice for this competition remains the same, except for the changes in funding described above and the following changes to DATES.

DATES: Applications Available: April 24, 2012.

Deadline for Transmittal of Applications: May 4, 2012.

Deadline for Intergovernmental Review: July 3, 2012.

Note: Applications for grants under the AP Test Fee program, CFDA number 84.330B, must be submitted electronically using the Governmentwide Grants.gov Apply site at www.Grants.gov. Through this site, you will be able to download a copy of the application package, complete it offline, and then upload and submit your application. You may not email an electronic copy of a grant application to us. For information about how to submit your application electronically, please refer to Electronic Submission of Applications in the February 15 notice.

FOR FURTHER INFORMATION CONTACT: Francisco Ramirez, U.S. Department of Education, 400 Maryland Avenue SW., room 3E224, Washington, DC 20202-6200. Telephone: (202) 260-1541 or by email: Francisco.Ramirez@ed.gov.

If you use a telecommunications device for the deaf (TDD) or a text telephone (TTY), call the Federal Relay Service (FRS), toll free, at 1-800-877-8339.

Individuals with disabilities can obtain this document and a copy of the application package in an accessible format (e.g., braille, large print, audiotape, or compact disc) by contacting the program person listed in this section.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 6534.

Dated: April 19, 2012.
Michael Yudin,
Acting Assistant Secretary for Elementary and Secondary Education.

[FR Doc. 2012-9855 Filed 4-23-12; 8:45 am]

BILLING CODE 4000-01-P